ENVIRONMENTAL PROTECTION AGENCY

[ER-FRL-9003-9]

Environmental Impacts Statements; Notice of Availability

Responsible Agency: Office of Federal Activities, General Information (202) 564-7146 or http://www.epa.gov/compliance/nepa/.

Weekly receipt of Environmental Impact Statements

Filed 07/02/2012 Through 07/06/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120223, Draft EIS, USFWS, TX, Edwards Aquifer Recovery Implementation Program Habitat Conservation Plan, Application for an Incidental Take Permit of 11 Federally Listed or Petitioned Species, Several Counties, Texas, Comment Period Ends: 10/10/2012, Contact: Adam Zerrenner 512-490-0057.

EIS No. 20120224, Draft EIS, FHWA, IL, Illiana Corridor Project Tier One Transportation System Improvements, Will and Kankakee Counties, IL and Lake County, IN, Comment Period Ends: 08/29/2012, Contact: Norman Stoner 217-492-4600.

EIS No. 20120225, Draft EIS, USFS, AZ, Bill Williams Mountain Restoration Project, Kaibab National Forest, Coconino County, AZ, Comment Period Ends: 08/27/2012, Contact: Martie Schramm 928-635-5630.

EIS No. 20120226, Final EIS, USFS, CA, Creeks II Forest Restoration Project, Proposal to Protect Rural Communities from Hazards by Constructing Fuel Breaks known as Defensible Fuel Profile Zones (DFPZs), Lassen National Forest, Almanor Ranger District, Plumas County, CA, Review Period Ends: 08/13/2012, Contact: Al Vazquez 530-258-2141.

EIS No. 20120227, Draft EIS, USMC, GA, Proposed Modernization and Expansion of Townsend Bombing Range, Acquiring Additional Property and Constructing Infrastructure to Allow the Use of Precision-Guided Munitions, McIntosh and Long Counties, GA, Comment Period Ends: 08/27/2012, Contact: Veronda Johnson 571-256-2783.

EIS No. 20120228, Final EIS, NHTSA, 00, Corporate Average Fuel Economy Standards Passenger Cars and Light Truck, Model Years 2017-2025, To Reduce National Energy Consumption by Increasing the Fuel Economy of Passenger Cars and Light Trucks sold in the U.S., Review Period Ends: 08/13/2012, Contact: James MacIsaac 202-366-9108.

This document is available on the Internet at: http://www.nhtsa.gov/fuel-economy.

EIS No. 20120229, Draft EIS, FHWA, CA, I-710 Corridor Project, Improvements, from Ocean Boulevard in the City of Long Beach to State Route 60 in East Los Angeles, Funding, Los Angeles County, CA, Comment Period Ends: 08/27/2012, Contact: Cesar E. Perez 916-498-5065.

Amended Notices

EIS No. 20120161, Draft EIS, USFS, NM, North Fork Eagle Creek Wells, Special Use Authorization Project, Operation of Four Municipal Supply Water Wells, Lincoln National Forest, Lincoln County, NM, Comment Period Ends: 09/07/2012, Contact: Dave Warnack 575-257-4095 Revision to FR Notice Published 5/25/2012; Extending Comment Period to 09/07/2012.

EIS No. 20120196, Draft EIS, NPS, OH, Cuyahoga Valley National Park Comprehensive Trail Management Plan, Cuyahoga and Summit Counties, OH, Comment Period Ends: 08/20/2012, Contact: Stan Austin 330-657-2752 Revision to FR Notice Published 06/22/2012; Change Comment Period from 08/06/201 to 8/20/2012.

Dated: July 10, 2012.
Cliff Rader,
Director, NEPA Compliance Division, Office of Federal Activities.

[FR Doc. 2012-17188 Filed 7-12-12; 8:45 am]

BILLING CODE 6560-50-P